INTERNATIONAL TRADE COMMISSION

[Investigation Nos. 701-TA-560-561 and 731-TA-1317-1328 (Review)]

Carbon and Alloy Steel Cut-to-Length Plate From Austria, Belgium, Brazil, China, France, Germany, Italy, Japan, South Africa, South Korea, Taiwan, and Turkey

Determination

On the basis of the record ¹ developed in the subject five-year reviews, the United States International Trade Commission (“Commission”) determines, pursuant to the Tariff Act of 1930 (“the Act”), that revocation of the countervailing duty orders on carbon and alloy steel cut-to-length plate from China and South Korea and the antidumping duty orders on carbon and alloy steel cut-to-length plate from Austria, Belgium, China, France, Germany, Italy, Japan, South Africa, South Korea, Taiwan, and Turkey would be likely to lead to continuation or recurrence of material injury to an industry in the United States within a reasonably foreseeable time. The Commission further determines that revocation of the antidumping duty order on carbon and alloy steel cut-to-length plate from Brazil would not be likely to lead to continuation or recurrence of material injury to an industry in the United States within a reasonably foreseeable time.²

¹ The record is defined in § 207.2(f) of the Commission's Rules of Practice and Procedure (19 CFR 207.2(f)).

² Commissioners Rhonda K. Schmidtlein and Randolph J. Stayin determine that revocation of the countervailing duty orders on carbon and alloy steel cut-to-length plate from China and South Korea and the antidumping duty orders on carbon and alloy steel cut-to-length plate from Austria, Belgium, Brazil, China, France, Germany, Italy, Japan, South Africa, South Korea, Taiwan, and Turkey would be likely to lead to continuation or recurrence of material injury to an industry in the United States within a reasonably foreseeable time.

Background

The Commission instituted these reviews on December 1, 2021 (86 FR 68269) and determined on March 7, 2022 that it would conduct full reviews (87 FR 19121, April 1, 2022). Notice of the scheduling of the Commission's reviews and of a public hearing to be held in connection therewith was given by posting copies of the notice in the Office of the Secretary, U.S. International Trade Commission, Washington, DC, and by publishing the notice in the Federal Register on July 19, 2022 (87 FR 43057). The Commission conducted its hearing on November 15, 2022. All persons who requested the opportunity were permitted to participate.

The Commission made these determinations pursuant to section 751(c) of the Act (19 U.S.C. 1675(c)). It completed and filed its determinations in these reviews on January 31, 2023. The views of the Commission are contained in USITC Publication 5399 (January 2023), entitled Carbon and Alloy Steel Cut-to-Length Plate from Austria, Belgium, Brazil, China, France, Germany, Italy, Japan, South Africa, South Korea, Taiwan, and Turkey: Investigation Nos. 701-TA-560-561 and 731-TA-1317-1328 (Review).

By order of the Commission.
Issued: January 31, 2023.
Katherine Hiner,
Acting Secretary to the Commission.

[FR Doc. 2023-02339 Filed 2-2-23; 8:45 am]

BILLING CODE 7020-02-P